DEPARTMENT OF THE INTERIOR

National Park Service

[NPS-WASO-NRNHL-DTS#-34112; PPWOCRADI0, PCU00RP14.R50000]

National Register of Historic Places; Notification of Pending Nominations and Related Actions

AGENCY: National Park Service, Interior.

ACTION: Notice.

SUMMARY: The National Park Service is soliciting electronic comments on the significance of properties nominated before June 11, 2022, for listing or related actions in the National Register of Historic Places.

DATES: Comments should be submitted electronically by July 7, 2022.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 11, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Jacobson House, 5645 North Campbell Ave., Tucson, SG100007931

COLORADO

Chaffee County

McFadden Brothers Ranch East Headquarters, 18101 Mountain View Dr., Buena Vista vicinity, SG100007932

DELAWARE

Sussex County

Milton Historic District (Boundary Increase), Roughly along DE 5, Milton, BC100007919

KANSAS

Barton County

Great Bend Central Business District, Roughly bounded by buildings fronting all sides of the courthouse square; 1100 and 1200 blks. of Kansas Ave., 1024, 1104-1222 Main St., 1200 and 1300 blks., 1409 Williams St., 2006-2111 Forest Ave., Great Bend, SG100007923

Ellis County

Chestnut Street Historic District (Boundary Increase II), Main, West 9th, West 10th, East and West 11th, East 12th Sts., Hays vicinity, BC100007927

Pratt County

Sawyer City Jail, Alley west of Main St., Sawyer, SG100007924

Wabaunsee County

Paxico Rural High School, (Public Schools of Kansas MPS), 112 Elm St., Paxico, MP100007925

MARYLAND

Anne Arundel County

Odenton Masonic Lodge No. 209, 1367 Odenton Rd., Odenton, SG100007940

MICHIGAN

Kent County

Heartside Historic District (Boundary Increase), Roughly Sheldon Blvd. SE, South Division Ave., Commerce Ave. SW, Ionia Ave. SW, Weston St. SE, Cherry St. SW, Williams St. SW, Bartlett St. SW, and Goodrich Street SW, all south of Fulton St. and north of Wealthy St., Grand Rapids, BC100007933

Mason County

East Ludington Avenue Historic District, 400-800 blks. East Ludington Ave., Ludington, SG100007920

Ontonagon County

Humphrey, Ernest J. and Edna, Farm, 878 South Cedar St., Ewen, SG100007921

Wayne County

Marygrove College, 8425 West McNichols Rd., Detroit, SG100007930

McGraw, Grace Ingersoll, House, 17315 East Jefferson Ave., Grosse Pointe, SG100007934

MONTANA

Glacier County

River View Dairy Barn, 1/2 mi. northwest of Cut Bank off Corrigeux Rd., Cut Bank vicinity, SG100007922

NEBRASKA

Clay County

Glenvil Fire Hall and Town Jail, Blk. 6, Lot 19 Winters Ave., Glenvil, SG100007937

Colfax County

Baumert & Bogner, 217 Center St., Howells, SG100007938

Lancaster County

Yates, Willard S. and Louise B., House, 2109 South 24th St., Lincoln, SG100007939

OHIO

Hamilton County

Formica Corporation-Crystal Arcade-Contemporary Arts Center Building, 120 East Fourth St., Cincinnati, SG100007941

TENNESSEE

Cannon County

Auburntown High School Gym, 150 Vantrease Ave., Auburntown, SG100007915

Hamilton County

Ridgedale Lodge, 2602 East Main St., Chattanooga, SG100007916

Lincoln County

Greer-Gill Farm, (Historic Family Farms in Middle Tennessee MPS), 352 Gingerbread Rd., Petersburg, MP100007917

Shelby County

Withers, Ernest C., House, 480 West Brooks Rd., Memphis, SG100007909

Parkview Hotel Apartments, (Residential Resources of Memphis MPS), 1914 Poplar Ave., Memphis, MP100007910

TEXAS

Fort Bend County

Holy Rosary Catholic Church, 1416 George St., Rosenberg, SG100007913

Harris County

St. Mark's Methodist Church, 600 Pecore St., Houston, SG100007914

Additional documentation has been received for the following resources:

DELAWARE

Sussex County

Milton Historic District (Additional Documentation), Roughly along DE 5, Milton, AD82002366

KANSAS

Ellis County

Chestnut Street Historic District (Additional Documentation), Main, West 9th, West 10th, West 11th, East 11th, East 12th Sts., Hays vicinity, AD06000621

NEBRASKA

Buffalo County

Kearney Woman's Club (Additional Documentation), 723 West 22nd St., Kearney, AD80002440

Authority: Section 60.13 of 36 CFR part 60.

Dated: June 15, 2022.
Sherry A. Frear,
Chief, National Register of Historic Places/National Historic Landmarks Program.

[FR Doc. 2022-13286 Filed 6-21-22; 8:45 am]

BILLING CODE 4312-52-P